SURFACE TRANSPORTATION BOARD

[Docket No. FD 36419]

New Orleans Public Belt Railroad Commission for the Port of New Orleans—Acquisition and Operation Exemption—New Orleans Public Belt Railroad Corporation

New Orleans Public Belt Railroad Commission for the Port of New Orleans (Railroad Commission), a noncarrier, has filed a verified notice of exemption under 49 CFR 1150.31 to acquire from the New Orleans Public Belt Railroad Corporation (NOPB) ¹ and operate approximately 29.3 miles of rail line and approximately 3.95 miles of assigned trackage rights. Railroad Commission states that it is a newly formed political subdivision of the State of Louisiana and is directed pursuant to state legislation to acquire all of the railroad operating assets of NOPB.

¹ Railroad Commission states that NOPB is a corporate subsidiary of the Board of Commissioners of the Port of New Orleans (Port).

Railroad Commission describes the lines and trackage rights it seeks to acquire as follows: ²

² NOPB was authorized to acquire and operate the segments described in #1 through #5 and #7 through #9 in New Orleans Public Belt Railroad—Acquisition and Operation Exemption—Public Belt Railroad Commission of the City of New Orleans, FD 36149 (STB served Dec. 27, 2017). NOPB was authorized to lease and operate the segments described in #6 in New Orleans Public Belt Railroad—Lease and Operation Exemption—Line of Illinois Central Railroad, FD 36362 (STB served Dec. 13, 2019).

1. The NOPB main line from the connection with BNSF Railway Company (BNSF) and Union Pacific Railroad Company (UP) at milepost J8.3 at West Bridge Junction in Avondale, La., to milepost J1.1 at Southport Junction in Jefferson, La., and from milepost J0.3 at Lampert Junction in Jefferson to milepost J0.0 at the Jefferson/Orleans Parish border, a total distance of approximately 7.5 miles in two sections connected by the overhead trackage rights described in #7 below. The West Bridge Junction-Southport Junction section includes the Huey P. Long Bridge.

2. The NOPB main line from a milepost equation at the Jefferson/Orleans Parish border where milepost J0.0 = milepost 0.26 to the connection with CSX Transportation, Inc. (CSXT) at milepost 14.2 at Almonaster in New Orleans, a distance of approximately 13.94 miles.

3. The Burma West Lead in New Orleans from milepost 14.2 at Almonaster to the end of track at milepost 15.3, a distance of approximately 1.1 miles.

4. The Burma East Lead in New Orleans from the connection with CSXT at milepost 14.4 east of the Industrial Canal to the end of track at milepost 16.3, a distance of approximately 1.9 miles.

5. The Bulk Terminal Lead in New Orleans from the connection with CSXT at milepost G0.0 east of the Industrial Canal to milepost G1.5, a distance of approximately 1.5 miles.

6. Parallel line segments owned by Illinois Central Railroad Company (IC) and leased to NOPB extending (1) between approximately IC milepost 906.1 at Central Avenue near East Bridge Junction in Shrewsbury, La., and the end of the track at approximately IC milepost 908.8 in Jefferson Parish, La.; and (2) between approximately IC milepost 921.8 at Iris Avenue (approximately IC milepost 908.5 on the first segment) and approximately IC milepost 921.14 at Dakin Street near Lampert Junction in Jefferson Parish, a total distance of approximately 3.36 miles. (Between East Bridge Junction and Iris Avenue the leased lines consist of parallel tracks known as the Main Track and the A1 and A2 Track).

7. Overhead trackage rights on IC from IC milepost 449.9 at East Bridge Junction in Shrewsbury, La., through Southport Junction (NOPB milepost J1.1) to IC milepost 921.14 at Dakin Street near Lampert Junction (NOPB milepost J0.3), a distance of approximately 2.6 miles.³ There is a milepost equation at Southport Junction, where IC milepost 451.7 = IC milepost 921.9.⁴

³ See New Orleans Pub. Belt R.R.—Trackage Rights Exemption—Ill. Cent. R.R., FD 33182 (STB served Oct. 30, 1996). According to Railroad Commission, the eastern segment of these trackage rights, from Southport Junction to Lampert Junction, connects the two sections of NOPB's main line described in #1 above. Railroad Commission states that the western segment of the trackage rights, from East Bridge Junction to Southport Junction, is adjacent to and north of NOPB's main line between those points.

⁴ Railroad Commission states that the overhead trackage rights described in #7 overlap with some of the line segments that NOPB currently leases, as described in #6, particularly with respect to the IC lines extending between East Bridge Junction and Dakin Street near Lampert Junction. According to Railroad Commission, despite this overlap, it will retain the overhead trackage rights described in #7, which it would exercise if it and IC were to agree to terminate the lease for the segments described in #6.

8. Overhead trackage rights on IC from IC Station 120+0.00 (NOPB milepost 3.4) at Nashville Avenue to IC Station 175+68.09 (NOPB milepost 4.4) at Valence Street in New Orleans, including the connection to the NOPB locomotive maintenance facility lead track at IC Station 163+80.0 (NOPB milepost 4.2) near Upperline Street, a distance of approximately 1.05 miles.⁵

⁵ See Ill. Cent. R.R.—Joint Relocation Project Exemption—in New Orleans, La., FD 33533 (STB served Jan. 16, 1998); Ill. Cent. R.R.—Joint Relocation Project Exemption—in New Orleans, La., FD 32598 (ICC served Nov. 16, 1994). Railroad Commission states that these trackage rights are parallel to NOPB's main line described in #2 above and serve as a bypass around Cotton Warehouse Yard.

9. Overhead trackage rights on CSXT from the connection with the NOPB main line described in #2 at CSXT milepost 801.5 at Almonaster in New Orleans across the Port-owned Industrial Canal Bridge to the connections with the Burma East Lead and Bulk Terminal Lead described in #4 and #5, respectively, at CSXT milepost 801.2 in New Orleans, a distance of approximately 0.3 miles.

Railroad Commission states that it will also acquire NOPB's ownership or operating interests in all yard, industry, wharf, and lead tracks associated with the above line segments, including the Southern Recycling Lead, East Bridge Yard, Pacific Fruit Express Yard, Cotton Warehouse Yard, Race Yard, French Market Station, Pauline Yard, Claiborne Yard, France Yard, North Bulk Terminal Yard, South Bulk Terminal Yard, and Kingfish Yard. According to Railroad Commission, upon completion of the transaction, it will be a Class III switching and terminal railroad, providing neutral local and intermediate switching service to shippers and six connecting Class I railroads in the New Orleans area in place of NOPB.

Railroad Commission certifies that its projected annual revenues as a result of this transaction will not exceed those that would qualify it as a Class III rail carrier.⁶ Because Railroad Commission's projected annual revenues will exceed $5 million, on July 2, 2020, Railroad Commission certified to the Board that it had complied with the requirements of 49 CFR 1150.32(e) by posting notice on July 2, 2020 at workplaces of NOPB employees and by serving notice on the national offices of the labor unions representing NOPB employees on the same date. Railroad Commission further certifies that neither the legislation governing this transaction nor any of the agreements to which Railroad Commission would succeed in place of NOPB includes any provision limiting Railroad Commission's future interchange of traffic with any connecting carrier.

⁶ Railroad Commission notes that, because it will operate as a switching and terminal railroad, it would be classified as a Class III carrier in any event under 49 CFR pt. 1201, General Instructions § 1-1(d).

The transaction may be consummated on or after September 10, 2020, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions to stay must be filed no later than September 3, 2020 (at least seven days before the exemption becomes effective).

All pleadings, referring to Docket No. FD 36419, must be filed with the Surface Transportation Board either via e-filing or in writing addressed to 395 E Street SW, Washington, DC 20423-0001. In addition, a copy of each pleading must be served on Railroad Commission's representative, Robert A. Wimbish, Fletcher & Sippel LLC, 29 North Wacker Drive, Suite 800, Chicago, IL 60606-3208.

According to Railroad Commission, this action is excluded from environmental review under 49 CFR 1105.6(c) and from historic preservation reporting requirements under 49 CFR 1105.8(b)(1).

Board decisions and notices are available at www.stb.gov.

Decided: August 24, 2020.
By the Board, Scott M. Zimmerman, Acting Director, Office of Proceedings.
Jeffrey Herzig,
Clearance Clerk.

[FR Doc. 2020-18878 Filed 8-26-20; 8:45 am]

BILLING CODE 4915-01-P